DEPARTMENT OF COMMERCE

International Trade Administration

University of Rochester; Notice of Decision on Application for Duty-Free Entry of Scientific Instrument

This decision is made pursuant to section 6(c) of the Educational, Scientific, and Cultural Materials Importation Act of 1966 (Pub. Law 89-651, 80 Stat. 897; 15 CFR part 301). Related records can be viewed between 8:30 A.M. and 5:00 P.M. in Room 4211, U.S. Department of Commerce, 14th and Constitution Avenue, NW., Washington, DC.

Docket Number: 00-034. Applicant: University of Rochester, Rochester, NY 14623. Instrument: Scanning Nearfield Optical Microscope. Manufacturer: WITec, Germany. Intended Use: See notice at 65 FR 65296, November 1, 2000.

Comments: None received. Decision: Approved. No instrument of equivalent scientific value to the foreign instrument, for such purposes as it is intended to be used, is being manufactured in the United States. Reasons: The foreign instrument provides: (1) an atomic force microscope with a metal probe operating in a vertical displacement AC mode and (2) simultaneous scanning atomic-force and near-field-optical microscopy on identical sample zones maintaining sample registration with nanometer accuracy. The National Institute of Standards and Technology advised December 21, 2000 that (1) these capabilities are pertinent to the applicant's intended purpose and (2) it knows of no domestic instrument or apparatus of equivalent scientific value to the foreign instrument for the applicant's intended use.

We know of no other instrument or apparatus of equivalent scientific value to the foreign instrument which is being manufactured in the United States.

Gerald A. Zerdy,
Program Manager, Statutory Import Programs Staff.

[FR Doc. 01-454 Filed 1-5-01; 8:45 am]

BILLING CODE 3510-DS-P